DEPARTMENT OF HEALTH AND HUMAN SERVICES

Centers for Disease Control and Prevention

Solicitation of Nominations for Appointment to the Lead Exposure and Prevention Advisory Committee

ACTION: Notice.

SUMMARY: The Centers for Disease Control and Prevention (CDC) is soliciting nominations for membership on the LEPAC. The LEPAC consists of 15 Federal and non-Federal experts in fields associated with lead screening, the prevention of lead exposure, and services for individuals and communities affected by lead exposure. Nominations are being sought for individuals who have expertise and qualifications necessary to contribute to the accomplishment of the committee's objectives. Nominees will be selected based on expertise in the fields of epidemiology, toxicology, mental health, pediatrics, early childhood education, special education, diet and nutrition, and environmental health. Members may be invited to serve for three-year terms. Selection of members is based on candidates' qualifications to contribute to the accomplishment of LEPAC objectives.

DATES: Nominations for membership on the LEPAC must be received no later than April 15, 2018. Packages received after this time will not be considered for the current membership cycle.

ADDRESSES: All nominations should be mailed to Ms. Perri Ruckart, MPH, Centers for Disease Control and Prevention, 4770 Buford Highway, MS F-58, Atlanta, GA 30341, emailed (recommended) to PRuckart@cdc.gov, or faxed to 770-488-3635.

FOR FURTHER INFORMATION CONTACT: Ms. Perri Ruckart, MPH, Designated Federal Officer, National Center for Environmental Health, Centers for Disease Control and Prevention, 4770 Buford Hwy. NE, Mailstop F-58, Atlanta, GA 30341, 770-488-3808, PRuckart@cdc.gov.

SUPPLEMENTARY INFORMATION: The members of this committee are selected by the Secretary of the U.S. Department of Health and Human Services (HHS). The committee advises the Secretary, HHS and the Director, Centers for Disease Control and Prevention/Administrator, Agency for Toxic Substances and Disease Registry on a range of activities to include: (1) Review of the Federal programs and services available to individuals and communities exposed to lead; (2) review of the current research on lead exposure to identify additional research needs; (3) review of and identification of best practices, or the need for best practices regarding lead screening and the prevention of lead exposure; (4) identification of effective services, including services relating to healthcare, education, and nutrition for individuals and communities affected by lead exposure and lead poisoning, including in consultation with, as appropriate, the lead exposure registry as established in Public Law 114-322 Section 2203(b) (42 U.S.C. 300j-27); and (5) undertaking of any other review or activities that the Secretary determines to be appropriate.

Annually as determined necessary by the Secretary or as required by Congress, the committee shall submit a report to include: (1) An evaluation of the effectiveness of the Federal programs and services available to individuals and communities exposed to lead; (2) an evaluation of additional lead exposure research needs; (3) an assessment of any effective screening methods or best practices used or developed to prevent or screen for lead exposure; (4) input and recommendations for improved access to effective services relating to health care, education, or nutrition for individuals and communities impacted by lead exposure; and (5) any other recommendations for communities affected by lead exposure, as appropriate.

At least half of the committee will consist of Federal representatives from a range of agencies that may include the Department of Housing and Urban Development; the Environmental Protection Agency; the Consumer Product Safety Commission; the Centers for Medicare and Medicaid Services; the Health Resources and Services Administration; the Food and Drug Administration; the U.S. Department of Agriculture; the Occupational Safety and Health Administration; the National Institute of Environmental Health Sciences; the U.S. Geological Survey; and such additional federal, state, tribal, and local public and private officials as the Secretary deems necessary for the committee to carry out its function. The rest of the committee will consist of non-Federal members. Only non-Federal members are being solicited with this announcement.

The U.S. Department of Health and Human Services policy stipulates that committee membership be balanced in terms of points of view represented and the committee's function. Appointments shall be made without discrimination on the basis of age, race, ethnicity, gender, sexual orientation, gender identity, HIV status, disability, and cultural, religious, or socioeconomic status. Nominees must be U.S. citizens and cannot be full-time employees of the U.S. Government. Current participation on federal workgroups or prior experience serving on a federal advisory committee does not disqualify a candidate; however, HHS policy is to avoid excessive individual service on advisory committees and multiple committee memberships. Committee members are Special Government Employees, requiring the filing of financial disclosure reports at the beginning and annually during their terms. CDC reviews potential candidates for LEPAC membership each year, and provides a slate of nominees for consideration to the Secretary of HHS for final selection. HHS notifies selected candidates of their appointment as soon as the HHS selection process is completed. Note that the need for different expertise varies from year to year and a candidate who is not selected in one year may be reconsidered in a subsequent year. Nominees must be U.S. citizens, and cannot be full-time employees of the U.S. Government. Candidates should submit the following items:

• Current curriculum vitae, including complete contact information (telephone numbers, mailing address, email address).

• A least one letter of recommendation from person(s) not employed by the U.S. Department of Health and Human Services. (Candidates may submit letter(s) from current HHS employees if they wish, but at least one letter must be submitted by a person not employed by an HHS agency (e.g., CDC, NIH, FDA, etc.).

Nominations may be submitted by the candidate him- or herself or by the person/organization recommending the candidate.

The Director, Management Analysis and Services Office, has been delegated the authority to sign Federal Register notices pertaining to announcements of meetings and other committee management activities for both the Centers for Disease Control and Prevention, and the Agency for Toxic Substances and Disease Registry.

Elaine L. Baker,
Director, Management Analysis and Services Office, Centers for Disease Control and Prevention.

[FR Doc. 2018-03462 Filed 2-20-18; 8:45 am]

BILLING CODE 4163-18-P